SECURITIES AND EXCHANGE COMMISSION

[OMB Control No. 3235-0536]

Submission for OMB Review; Comment Request; Extension: Regulation FD—Other Disclosure Materials

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget this request for extension of the previously approved collection of information discussed below.

Regulation FD (17 CFR 243.100 et seq.) requires public disclosure of material information from issuers of publicly traded securities so that investors have current information upon which to base investment decisions. The purpose of the regulation is to require that: (1) when an issuer intentionally discloses material information, to do so through public disclosure, not selective disclosure; and (2) to make prompt public disclosure of material information that was unintentionally selectively disclosed. We estimate that approximately 7,196 issuers make Regulation FD disclosures approximately five times a year for a total of 19,274 responses annually (after excluding the approximately 16,706 Form 8-K filings that are made annually to comply with Regulation FD). We estimate that it takes 5 hours per response for a total burden of 96,370 hours annually (19,274 responses × 5 hours). In addition, we estimate that 75% of the 5 hours per response (3.75 hours) is carried internally by the filer for an annual reporting burden of 72,278 hours (3.75 hours per response × 19,274 responses).

An agency may not conduct or sponsor, and a person is not required to respond to, a collection of information unless it displays a currently valid OMB control number.

Written comments are invited on: (a) whether this collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology.

The public may view and comment on this information collection request at: https://www.reginfo.gov/public/do/PRAViewICR?ref_nbr=202501-3235-003 or send an email comment to MBX.OMB.OIRA.SEC_desk_officer@omb.eop.gov within 30 days of the day after publication of this notice by May 9, 2025.

Dated: April 2, 2025.
Sherry R. Haywood,
Assistant Secretary.

[FR Doc. 2025-05985 Filed 4-7-25; 8:45 am]

BILLING CODE 8011-01-P